DEPARTMENT OF COMMERCE

National Oceanic and Atmospheric Administration

50 CFR Part 660

[Docket No. 010502110-1110-01; I.D. 071601E]

Fisheries Off West Coast States and in the Western Pacific; West Coast Salmon Fisheries; Closure of the Commercial Fishery from U.S.-Canada Border to Leadbetter Pt., WA

AGENCY: National Marine Fisheries Service (NMFS), National Oceanic and Atmospheric Administration (NOAA), Commerce.

ACTION: Closure; request for comments.

SUMMARY: NMFS announces that the commercial fishery for all salmon in the area from the U.S.-Canada Border to Leadbetter Pt., WA, was closed on July 9, 2001, at 2359 hours local time (l.t.). The Northwest Regional Administrator of NMFS (Regional Administrator) determined that the guideline of 7,000 chinook salmon had been reached. This action was necessary to conform to the 2001 annual management measures for ocean salmon fisheries.

DATES: Closure effective 2359 hours l.t., July 9, 2001. Comments will be accepted through August 9, 2001.

ADDRESSES: Comments on this action may be mailed to Donna Darm, Acting Regional Administrator, Northwest Region, NMFS, NOAA, 7600 Sand Point Way N.E., Bldg. 1, Seattle, WA 98115-0070; fax 206-526-6376; or Rebecca Lent, Regional Administrator, Southwest Region, NMFS, NOAA, 501 W. Ocean Blvd., Suite 4200, Long Beach, CA 90802-4132; fax 562-980-4018. Comments will not be accepted if submitted via e-mail or the Internet. Information relevant to this document is available for public review during business hours at the Office of the Regional Administrator, Northwest Region, NMFS.

FOR FURTHER INFORMATION CONTACT: Christopher Wright, 206-526-6140, Northwest Region, NMFS, NOAA.

SUPPLEMENTARY INFORMATION: Regulations governing the ocean salmon fisheries at 50 CFR 660.409 (a)(1) state that, when a quota for any salmon species in any portion of the fishery management area is projected by the Regional Administrator to be reached on or by a certain date, NMFS will, by notification issued under 50 CFR 660.411 (a)(2), close the fishery for all salmon species in the portion of the fishery management area to which the quota applies, as of the date the quota is projected to be reached.

In the 2001 annual management measures for ocean salmon fisheries (66 FR 23185, May 8, 2001), NMFS announced that the commercial fishery for all salmon in the area from the U.S.-Canada Border to Leadbetter Pt., WA, would open on July 1 through the earlier of July 27, a 7,000-chinook preseason guideline, or a 12,000-marked coho guideline.

The Regional Administrator consulted with representatives of the Pacific Fishery Management Council, the Washington Department of Fish and Wildlife, and the Oregon Department of Fish and Wildlife. The best available information as of July 9, 2001, related to the catch and effort to date and projected catch for fish that were yet to be landed, indicated that the 7,000-chinook quota would likely be reached by 2359 hours l.t., July 9, 2001, and that a closure of the area was warranted. The State of Washington will manage the fishery in state waters adjacent to this area of the exclusive economic zone in accordance with this Federal action. As provided by the inseason notice procedures of 50 CFR 660.411, actual notice to fishermen of these actions was given prior to 2359 hours l.t. on July 9, 2001, by telephone hotline number 206-526-6667 and 800-662-9825, and by U.S. Coast Guard Notice to Mariners broadcasts on Channel 16 VHF-FM and 2182 kHz.

NMFS has determined that the need for immediate action to close the fishery upon achievement of the quota is good cause for this notification to be issued without affording a prior opportunity for public comment. Such notification would be unnecessary, impracticable, and contrary to the public interest. Moreover, because of the immediate need to close the fishery upon achievement of the quota, the Assistant Administrator for Fisheries, NOAA, finds for good cause, under 5 U.S.C. 553 (d)(3), that delaying the effectiveness of this rule for 30 days is impracticable and contrary to public interest. This action does not apply to other fisheries that may be operating in other areas.

Classification

This action is authorized by 50 CFR 660.409 and 660.411 and is exempt from review under Executive Order 12866.

Authority: 16 U.S.C. 1801 et seq.

Dated: July 19, 2001.
Bruce C. Morehead,
Acting Director, Office of Sustainable Fisheries, National Marine Fisheries Service.

[FR Doc. 01-18572 Filed 7-24-01; 8:45 am]

BILLING CODE 3510-22-S